DEPARTMENT OF ENERGY

Federal Energy Regulatory Commission

Notice of FERC Staff Attendence at Entergy Independent Coordinator of Transmission (Southwest Power Pool) Near-Term Transmission Issues Group Meeting, Long-Term Transmission Issues Working Group Meeting, and Stakeholders Policy Committee Meeting

November 9, 2006.

The Federal Energy Regulatory Commission hereby gives notice that members of its staff may attend the meetings noted below. Their attendance is part of the Commission's ongoing outreach efforts.

ICT Near-Term Transmission Issues Group

November 13, 2006 (1 p.m.-5 p.m. CST), Double Tree Hotel-Houston Intercontinental Airport, 15747 John F. Kennedy Blvd., Houston, Texas 77032, 281-848-4000.

ICT Long-Term Transmission Issues Working Group

November 14, 2006 (8 a.m.-12 p.m. CST), Double Tree Hotel-Houston Intercontinental Airport, 15747 John F. Kennedy Blvd., Houston, Texas 77032, 281-848-4000.

ICT Stakeholders Policy Committee Meeting

November 14, 2006 (1 p.m.-5 p.m. CST), Double Tree Hotel-Houston Intercontinental Airport, 15747 John F. Kennedy Blvd., Houston, Texas 77032, 281-848-4000.

The discussions may address matters at issue in the following proceedings:

Docket No. EL01-88 | Entergy Services, Inc.
Docket No. ER05-1065 | Entergy Services, Inc.
Docket No. ER03-171 | Entergy Mississippi, Inc.
Docket No. EL02-107 | Duke Energy Hinds, LLC, Duke Energy Hot Spring, LLC, Duke Energy Southaven, LLC, Duke Energy North America, LLC. v. Entergy Services, Inc., Entergy Operating Companies.
Docket No. ER02-405 | Entergy Services, Inc.
Docket No. EL02-88 | Wrightsville Power Facility, L.L.C. v. Entergy Arkansas, Inc.
Docket Nos. EL03-3, ER02-1472 | Entergy Gulf States, Inc.
Docket Nos. EL03-4, ER02-1151 | Entergy Services, Inc.
Docket No. EL03-5, ER02-1609 | Entergy Services, Inc.
Docket No. EL03-3 | Entergy Operating Companies.
Docket No. ER02-1472 | Entergy Operating Companies.
Docket No. EL03-4 | Entergy Operating Companies.
Docket No. ER02-1069 | Entergy Operating Companies.
Docket No. EL03-13 | Entergy Operating Companies.
Docket No. ER02-2243 | Entergy Operating Companies.
Docket No. EL05-15 | Arkansas Electric Cooperative Corporation v. Entergy Arkansas, Inc.
Docket No. EL06-76 | Arkansas Public Service Commission v. Entergy Services, Inc., et al.
Docket No. ER03-583 | Entergy Services, Inc. and EWO Marketing, L.P.
Docket No. ER03-681, ER03-682 | Entergy Services, Inc. and Entergy Power, Inc.
Docket No. ER03-744 | Entergy Services, Inc. and Entergy Louisiana, Inc.
Docket No. TX06-1 | Louisiana Energy and Power Authority.
Docket No. EL04-20 | Carville Energy LLC v. Entergy Services, Inc.
Docket No. EL04-49 | Quachita Power LLC v. Entergy Services, Inc.
Docket No. EL04-99 | Mississippi Delta Entergy Agency, et al. v. Entergy Services, Inc.
Docket No. EL05-1 | Union Power Partners v. Entergy Services, Inc.
Docket No. EL05-21 | Tenaska Frontier Partners v. Entergy Services, Inc.
Docket No. ER06-1555-000 | Entergy Services, Inc.
Docket No. ER03-1272, EL05-22 | Entergy Services, Inc.

These meetings are open to the public.

For more information, contact Tony Ingram, Office of Energy Markets and Reliability, Federal Energy Regulatory Commission at (202)502-8938 or tony.ingram@ferc.gov.

Magalie R. Salas,
Secretary.

[FR Doc. E6-19355 Filed 11-15-06; 8:45 am]

BILLING CODE 6717-01-P